DEPARTMENT OF COMMERCE

Economics and Statistics Administration

Performance Review Board Membership

SUMMARY: Below is a listing of individuals who are eligible to serve on the Performance Review Board in accordance with the Economics and Statistics Administration Senior Executive Service (SES) Performance Appraisal System:

Hermann Habermann

Shirin A. Ahmed

Teresa Angueira

William G. Bostic, Jr.

Chester E. Bowie

Cynthia Z. F. Clark

Douglas R. Clift

Nancy M. Gordon

Gloria A. Gutierrez

Arnold A. Jackson

Theodore A. Johnson

Ruth Ann Killion

Frederick T. Knickerbocker

John F. Long

Michael J. Longini

Thomas L. Mesenbourg

C. Harvey Monk

Walter C. Odom, Jr.

Marvin D. Raines

Brian Monaghan

Rajendra P. Singh

Richard W. Swartz

Alan R. Tupek

Carol M. Van Horn

Preston J. Waite

Mark E. Wallace

Ewen M. Wilson

J. Steven Landefeld

Suzette C. Kern

Dennis J. Fixler

Barbara M. Fraumeni

Ralph H. Kozlow

Alan C. Lorish

Rosemary D. Marcuss

Brent R. Moulton

Sumiye O. Okubo

John W. Ruser

James K. White

Katherine Wallman

FOR FURTHER INFORMATION CONTACT: Nancy Osborn, 301-763-3727.

Dated: June 28, 2004.
James K. White,
Associate Under Secretary for Management, Chair, Performance Review Board.

[FR Doc. 04-15159 Filed 7-2-04; 8:45 am]

BILLING CODE 3510-BS-P